DEPARTMENT OF THE INTERIOR

National Park Service

Rosie the Riveter/World War II Home Front National Historical Park; Richmond, California; Notice of Intent To Prepare an Environmental Impact Statement

SUMMARY: In accordance with § 102(2)(C) of the National Environmental Policy Act (42 U.S.C. 4321 et. seq.), the National Park Service (NPS) is undertaking a conservation planning and environmental impact analysis process to determine what approaches to take concerning resource protection and visitor use in the development of the Rosie the Riveter/World War II Home Front National Historical Park in Richmond, Contra Costa County, California. Notice is hereby given that a public scoping process has been initiated to prepare an Environmental Impact Statement (EIS) and General Management Plan (GMP). The purpose of the scoping process is to elicit public comment regarding the spectrum of issues and concerns, including a suitable range of alternatives, and the nature and extent of potential environmental impacts and appropriate mitigation strategies which should be addressed in the planning and environmental analysis process.

Background

As authorized by Pub. L. 106-352, the NPS is preparing a General Management Plan for the Rosie the Riveter/World War II Home Front National Historical Park in Richmond, California. The Rosie the Riveter/World War II Home Front National Historical Park includes the Ford Assembly Building, the Richmond Shipyard #3 (currently known as the Port of Richmond, Terminals 5, 6 and 7), the Maritime and Ruth Powers Child Development Centers, Atchison Village housing, Kaiser Field Hospital, Fire Station 67A, the Rosie the Riveter Memorial, the S.S. Red Oak Victory, and city parks referred to in the authorizing legislation as Shimada Peace Memorial Park, Westshore Park (now known as Lucretia Edwards Park), Sheridan Observation Point Park, Vincent Park, and the Bay Trail/Esplanade. The National Park Service does not own or manage these sites, but is authorized to interpret the story of Rosie the Riveter and the World War II home front, conduct and maintain oral histories, operate an education center, provide visitor services, provide technical assistance, enter into agreements to support preservation and interpretation, and acquire technical assistance, enter into agreements to support preservation and interpretation, and acquire technical assistance, enter into agreements to support preservation and interpretation, and acquire certain structures from willing sellers. The NPS will work in cooperation with the public and private owners of these sites to plan for and encourage their preservation and use.

Pub. L. 106-352 requires the General Management Plan to include a plan to preserve the historic setting of the Rosie the Riveter/World War II Home Front National Historical Park, which must be jointly developed and approved by the City of Richmond. Legislation also requires the General Management Plan to include a determination of whether there are additional representative sites in Richmond that should be added to the park, or sites elsewhere in the United States that relate to the industrial, governmental, and citizen efforts during World War II that should be linked to and interpreted at the park.

In preparing the General Management Plan, the NPS will develop management prescriptions for each area of the park. These management prescriptions will specify desired resource conditions, desired visitor experiences, and appropriate types and levels of management, use and development. The General Management Plan will serve as a blueprint for the next ten to fifteen years to guide park management decisions relating to park operations, facilities, staffing, interpretation and community involvement.

Scoping Comments

Formal scoping for the General Management Plan and EIS is hereby initiated. Public meetings will be held at various locations in Richmond, CA, and in other parts of the San Francisco Bay Area, with locations and dates to be determined. These public meetings will be announced via local and regional news media and by direct mail. All interested individuals, organizations and agencies wishing to provide comments, suggestions, or relevant information, or those wishing to be added to the project mailing list, should respond to: National Park Service, Attn: Martha Crusius, Planning and Partnerships, 1111 Jackson St. #700, Oakland, CA 94607. All written comments must be postmarked not later than August 30, 2002.

If individuals submitting comments request that their name or/and address be withheld from public disclosure, their requests will be honored to the extent allowable by law. Such requests must be available to public inspection all submissions from organizations or businesses and from persons identifying themselves as representatives or officials of organizations and businesses. Anonymous comments may not be considered.

Decision Process

Availability of the draft GMP/EIS for review and written comment will be announced by Federal Register notice, via local and regional news media, and direct mailing. At this time the draft GMP/EIS is anticipated to be available for public review in 2003, and that subsequently a final GMP/EIS will be completed in 2004. To afford additional opportunity to comment on the draft GMP/EIS after it is distributed, public meetings will be held in the City of Richmond and San Francisco Bay Area (dates and locations to be determined). Notice of the availability of the final GMP/EIS will likewise be published in the Federal Register. As this is a delegated EIS, the official responsible for approval is the Regional Director, Pacific West Region, National Park Service; subsequently the official responsible for implementation will be the Superintendent of Rosie the Riveter/World War II Home Front National Historical Park.

Dated: January 11, 2002.
John J. Reynolds,
Regional Director, Pacific West Region.

[FR Doc. 02-7254 Filed 3-25-02; 8:45 am]

BILLING CODE 4310-70-P